DEPARTMENT OF ENERGY

Federal Energy Regulatory Commission

[Docket No. CP10-43-001]

High Island Offshore System, L.L.C.; Notice of Amendment

Take notice that on June 6, 2011, High Island Offshore System, L.L.C. (HIOS), 1100 Louisiana St., Houston, Texas 77002, filed in Docket No. CP10-43-001, to amend its application filed in Docket No. CP10-43-000 pursuant to section 7(b) of the Natural Gas Act (NGA) and Part 157 of the Commission's regulations, by requesting authorization to establish its system's firm, certificated capacity at 500 MMcf per day rather than the originally requested 350 MMcf per day. The requested reduction in firm, certificated capacity is related to HIOS's request to abandon three compressor units on a platform at High Island Area Block 264, located offshore Texas, all as more fully set forth in the application as amended which is on file with the Commission and open to public inspection.

Any questions regarding this application should be directed to Jeff Molinaro, High Island Offshore System, L.L.C., 1100 Louisiana St., Houston, Texas 77002, or (telephone) 713-381-2526, or JMolinaro@epco.com, or (Fax) 713-803-2534.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit seven copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission encourages electronic submission of protests and interventions in lieu of paper using the “eFiling” link at http://www.ferc.gov. Persons unable to file electronically should submit an original and seven copies of the protest or intervention to the Federal Energy Regulatory Commission, 888 First Street, NE., Washington, DC 20426. This filing is accessible on-line at http://www.ferc.gov using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: June 24, 2011.

Dated: June 9, 2011.
Kimberly D. Bose,
Secretary.

[FR Doc. 2011-14899 Filed 6-15-11; 8:45 am]

BILLING CODE 6717-01-P